DEPARTMENT OF TRANSPORTATION

Federal Aviation Administration

14 CFR Part 39

[Docket No. FAA-2012-0086; Directorate Identifier 2011-SW-045-AD; Amendment 39-16936; AD 2012-02-13]

RIN 2120-AA64

Airworthiness Directives; Eurocopter France Helicopters

AGENCY: Federal Aviation Administration (FAA), Department of Transportation (DOT).

ACTION: Final rule; request for comments.

SUMMARY: We are adopting a new airworthiness directive (AD) for all Eurocopter France EC130B4 helicopters that have not had Eurocopter Modification 073880 incorporated. This AD is prompted by several reports of cracks in the tailboom/Fenestron junction frame, which could result in structural failure of the tail boom, resulting in detachment of the Fenestron (tail rotor) and subsequent loss of control of the helicopter. We are issuing this AD to correct the unsafe condition on these helicopters.

DATES: This AD becomes effective February 22, 2012.

The Director of the Federal Register approved the incorporation by reference of certain documents listed in this AD as of February 22, 2012.

We must receive comments on this AD by April 9, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this AD, the economic evaluation, any comments received, and other information. The street address for the Docket Operations Office (telephone (800) 647-5227) is in the ADDRESSES section. Comments will be available in the AD docket shortly after receipt.

For service information identified in this AD, contact American Eurocopter Corporation, 2701 N. Forum Drive, Grand Prairie, TX 75052, telephone (972) 641-0000 or (800) 232-0323, fax (972) 641-3775, or at http://www.eurocopter.com/techpub. You may review copies of the referenced service information at the FAA, Office of the Regional Counsel, Southwest Region, 2601 Meacham Blvd., Room 663, Fort Worth Texas 76137.

FOR FURTHER INFORMATION CONTACT: Jim Grigg, Manager, FAA, Rotorcraft Directorate, Safety Management Group, 2601 Meacham Blvd., Fort Worth, TX 76137, telephone (817) 222-5126, email: jim.grigg@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA AD No. 2011-0116, dated July 6, 2011 (AD 2011-0116) to correct an unsafe condition for Eurocopter EC 130 B4 helicopters. EASA advises of several reports of cracks in the tailboom/Fenestron junction frame. Prompted by these reports, Eurocopter published Information Notice No. 2167-I-53 (2167-I-53). Since publication of 2167-I-53, new cases of cracks in the tailboom/Fenestron junction frame have been reported. Examination of the parts revealed the cracks were longer than the previously reported cracks and started to develop in the plane of the rivet head countersink on the right hand (RH) side of the Fenestron and spread to the web of the frame. This condition, if not corrected, could lead to structural failure, which could result in Fenestron detachment and consequent loss of control of the helicopter. AD 2011-0116 requires repetitive inspections of the affected area and depending on findings, accomplishing corrective actions.

FAA's Determination

These helicopters have been approved by the aviation authority of France and are approved for operation in the United States. Pursuant to our bilateral agreement with France, EASA, their technical representative, has notified us of the unsafe condition described in the EASA AD. We are issuing this AD because we evaluated all information provided by EASA and determined the unsafe condition is likely to exist or develop on other helicopters of these same type designs.

Related Service Information

We reviewed Eurocopter Emergency Alert Service Bulletin 53A019, dated June 14, 2011 (EASB). The EASB describes procedures for inspecting the RH side of the tailboom/Fenestron junction frame from the inside and outside for cracks. If a crack is present, the EASB requires contacting Eurocopter for approved repair instructions.

AD Requirements

This AD requires compliance with specified portions of the manufacturer's service bulletin, except as discussed under “Differences Between this AD and the EASA AD.”

Differences Between This AD and the EASA AD

The EASA AD allows for flights for a certain period of time with known cracks. Except for limited ferry flights, this AD does not permit operations with known cracks. The EASA AD allows for an initial inspection which does not require stripping the paint, and then stripping the paint prior to inspection within 110 flight hours. This AD mandates stripping the paint as part of the initial inspection.

Costs of Compliance

We estimate that this AD will affect 109 helicopters of U.S. Registry.

We estimate that operators may incur the following costs in order to comply with this AD. To inspect the tailboom/Fenestron junction frame for a crack will require 1 work-hour at an average labor cost of $85 per hour, for a total cost per inspection cycle of $85 per helicopter and $9,265 for the entire fleet. To replace a tailboom with an airworthy tailboom will require 50 work-hours and a parts cost of $60,000, for a total cost per helicopter of $64,250.

FAA's Justification and Determination of the Effective Date

These helicopters are used primarily by air tour and helicopter Emergency medical services. Helicopters used in these industries average in excess of 100 hours TIS per month. The cracks are in a primary structure of the helicopter that may prevent further safe flight. Therefore, we find that the risk to the flying public justifies waiving notice and comment prior to the adoption of this rule because the required corrective actions must be accomplished within 10 hours TIS, a very short time period based on the average flight-hour utilization rate of these helicopters. Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-02-13 Eurocopter France: Amendment 39-16936; Docket No. FAA-2012-0086; Directorate Identifier 2011-SW-045-AD.

(a) Applicability. This AD applies to Model EC130B4 helicopters that do not have Eurocopter Modification (MOD) 073880 incorporated, all serial numbers, certificated in any category.

(b) Unsafe Condition. This AD defines the unsafe condition as cracks on the tailboom/Fenestron junction frame. This condition could result in structural failure of the tailboom, detachment of the Fenestron, and subsequent loss of control of the helicopter.

(c) Effective Date. This airworthiness directive (AD) becomes effective February 22, 2012.

(d) Compliance. You are responsible for performing each action required by this AD within the specified compliance time unless accomplished previously.

(e) Corrective Actions.

(1) Within 10 hours time-in-service (TIS):

(i) Inspect the right hand side of the tailboom/Fenestron junction frame for cracks in the web from the inside as depicted in Details C and D of Figure 2 of Eurocopter Emergency Alert Service Bulletin 53A019, dated June 14, 2011 (EASB).

(ii) Strip the paint on the areas of the right hand side of the tailboom/Fenestron junction frame depicted in Detail E of Figure 3 of the EASB. Apply a coat of primer to the stripped area. Apply varnish to the stripped area.

(iii) Inspect the stripped area of the frame for cracks from the outside.

(2) Thereafter at intervals not to exceed 50 hours TIS, inspect the frame by following the inspection requirements of paragraphs (1)(i) and (1)(iii) of this AD.

(3) If there is a crack, before further flight, replace the tailboom with an airworthy tailboom that incorporates Eurocopter MOD 073880.

(4) After the effective date of this AD, do not install a tailboom that does not incorporate Eurocopter MOD 073880 on any helicopter.

(f) Special flight permits. Special flight permits may be issued for up to 2 hours TIS to ferry the helicopter to a repair facility if the crack does not extend into the web of the tailboom/Fenestron junction frame.

(g) Alternative Methods of Compliance (AMOCs).

(1) The Manager, Safety Management Group, FAA, may approve AMOCs for this AD. Send your proposal to: Jim Grigg, Manager, FAA, Rotorcraft Directorate, Safety Management Group, 2601 Meacham Blvd., Fort Worth, TX 76137, telephone (817) 222-5126, email: jim.grigg@faa.gov.

(2) For operations conducted under a Part 119 operating certificate or under Part 91, Subpart K, we suggest that you notify your principal inspector, or lacking a principal inspector, the manager of the local flight standards district office or certificate holding district office, before operating any aircraft complying with this AD through an AMOC.

(h) Subject. Joint Aircraft System Component (JASC) Code: 5302: Rotorcraft Tail Boom.

(i) Additional Information. The subject of this AD is addressed in European Aviation Safety Agency (France) AD No. 2011-0116, dated July 6, 2011.

(j) Material Incorporated by Reference. You must use the specified portions of Eurocopter Emergency Alert Service Bulletin 53A019, dated June 14, 2011, to do the specified actions required by this AD.

(1) The Director of the Federal Register approved the incorporation by reference of this service information under 5 U.S.C. 552(a) and 1 CFR part 51.

(2) For service information identified in this AD, contact American Eurocopter Corporation, 2701 N. Forum Drive, Grand Prairie, TX 75052, telephone (972) 641-0000 or (800) 232-0323, fax (972) 641-3775, or at http://www.eurocopter.com/techpub.

(3) You may review copies of the referenced service information at the FAA, Office of the Regional Counsel, Southwest Region, 2601 Meacham Blvd., Room 663, Fort Worth Texas 76137 or at the National Archives and Records Administration (NARA). For information on the availability of this material at NARA, call (202) 741-6030, or go to: http://www.archives.gov/federal_register/code_of_federal_regulations/ibr_locations.html.

Issued in Fort Worth, Texas, on January 23, 2012.
Kim Smith,
Manager, Rotorcraft Directorate, Aircraft Certification Service.

[FR Doc. 2012-2418 Filed 2-6-12; 8:45 am]

BILLING CODE 4910-13-P